FEDERAL COMMUNICATIONS COMMISSION

47 CFR Part 74

[MB Docket No. 07-172; FCC 09-59].

Amendment of Service and Eligibility Rules for FM Broadcast Translator Stations

AGENCY: Federal Communications Commission.

ACTION: Final rule; announcement of effective date.

SUMMARY: In this document, the Commission announces that the Office of Management and Budget (OMB) has approved, for a period of three years, the information collection requirements associated with 47 CFR 74.1284, FCC Form 303-S and FCC Form 345. Therefore, this rule and forms will take effect on October 1, 2009. On September 1, 2009, the Commission published the summary document of the Report and Order, In the Matter of the Amendment of Service and Eligibility Rules for FM Broadcast Translator Stations, MB Docket No. 07-172, FCC 09-59, at 74 FR 45126. The Ordering Clause of the Report and Order stated that the Commission would publish a notice in the Federal Register announcing when OMB approval for Section 74.1284 and information collection requirements (revisions to FCC Form 303-S and 345) have been received and when the revised rule and requirements will take effect. This notice is consistent with the statement in the Report and Order.

FCC Form 349 has not received OMB approval to date. The Commission will publish a notice in the Federal Register announcing when OMB approval has been received.

DATES: The amendments to 47 CFR 74.1284, published September 1, 2009 (74 FR 45130) are effective on October 1, 2009.

FOR FURTHER INFORMATION CONTACT: Cathy Williams, cathy.williams@fcc.gov or on (202) 418-2918.

SUPPLEMENTARY INFORMATION: This document announces that, on September 1, 2009, OMB approved, for a period of three years, the information collection requirement(s) contained in Section 74.1284 of the rules and revisions to FCC Forms 303-S and 345. The Commission publishes this notice to announce the effective date of this rule and requirements. If you have any comments on the burden estimates listed below, or how the Commission can improve the collections and reduce any burdens caused thereby, please contact Cathy Williams, Federal Communications Commission, Room 1-C823, 445 12th Street, SW, Washington, DC 20554. Please include OMB Control Numbers, 3060-0075 (Form 345), 3060-0110 (Form 303-S) and 3060-0250 (Section 74.1284) in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

SYNOPSIS

As required by the Paperwork Reduction Act of 1995 (44 U.S.C. 3507), the Commission is notifying the public that it received OMB approval on September 1, 2009, for the information collection requirement(s) contained in the Commission's rules at 47 CFR 74.1284 and revisions to FCC Forms 303-S and 345.

Under 5 CFR 1320, an agency may not conduct or sponsor a collection of information unless it displays a current, valid OMB Control Number.

No person shall be subject to any penalty for failing to comply with a collection of information subject to the Paperwork Reduction Act that does not display a valid OMB Control Number.

The OMB Control Numbers are 3060-0075, 3060-0110 and 3060-0250 and the total annual reporting burdens for respondents for these information collections are as follows:

OMB Control Number: 3060-0075.

OMB Approval Date: September 1, 2009.

Expiration Date: August 31, 2012.

Title: Application for Transfer of Control of a Corporate Licensee or Permittee or Assignment of License or Permit for an FM or TV Translator Station or a Low Power Television Station, FCC Form 345.

Form Number: FCC Form 345.

Type of Review: Revision of a currently approved collection.

Respondents: Business or other for-profit entities; not-for-profit institutions; State, local or tribal government.

Number of Respondents and Responses: 1,700 respondents; 2,700 responses.

Estimated Time per Response: 0.084 -1.25 hours.

Frequency of Response: On occasion reporting requirement; Third party disclosure requirement.

Total Annual Burden: 2,667 hours.

Total Annual Costs: $2,678,025.

Obligation to Respond: Required to obtain or retain benefits. The statutory authority for this information collection is contained in Sections 154(i) and 310 of the Communications Act of 1934, as amended.

Nature and Extent of Confidentiality: There is no need for confidentiality with this information collection.

Privacy Act Impact Assessment: No impact(s).

Needs and Uses: On June 29, 2009, the Commission adopted a Report and Order, Amendment of Service and Eligibility Rules for FM Broadcast Translator Stations, MB Docket No. 07-172, FCC 09-59. In the Report and Order, the Commission adopted changes to the FM translator rules that would allow AM stations to use authorized FM translator stations to rebroadcast the AM signal locally, retransmitting their AM programming as a ”fill-in” service. The adopted cross-service translating rules limit FM translators to providing ”fill-in” service only, specifically within the AM primary station's authorized service area. In addition, the Commission limited the cross-service rule changes to ”currently authorized FM translators,” that is, those translators with licenses or permit in effect as of May 1, 2009.

Consistent with actions taken by the Commission in the Report and Order, the following changes are made to Form 345: Section III of Form 345 includes a new certification concerning compliance with the AM station ”fill-in” service requirements. Specifically, in the AM service, applicants certify that the coverage contour of the FM translator station is contained within the lesser of: (a) The 2 mV/m daytime contour of the AM primary station being rebroadcast, or (b) a 25-mile radius centered at the AM station's transmitter site. The instructions for Section III have been revised to assist applicants with completing the new question.

Filing of the FCC Form 345 is required when applying for authority for the assignment of license or permit, or for consent to transfer of control of a corporate licensee or permittee for an FM or TV translator station, or low power TV station.

OMB Control Number: 3060-0110.

OMB Approval Date: September 1, 2009.

Expiration Date: August 31, 2012.

Title: Application for Renewal of Broadcast Station License, FCC Form 303-S.

Form Number: FCC Form 303-S.

Type of Review: Revision of a currently approved collection.

Respondents: Business or other for-profit entities; not-for-profit institutions.

Number of Respondents and Responses: 3,884 respondents; 3,884 responses.

Estimated Time per Response: 1 - 11.83 hours.

Frequency of Response: Every eight year reporting requirement; Third party disclosure requirement.

Total Annual Burden: 7,727 hours.

Total Annual Costs: $2,148,549.

Obligation to Respond: Required to obtain or retain benefits. The statutory authority for this information collection is contained in 154(i), 303, 307 and 308 of the Communications Act of 1934, as amended, and Section 204 of the Telecommunications Act of 1996.

Nature and Extent of Confidentiality: There is no need for confidentiality with this information collection.

Privacy Act Impact Assessment: No impact(s).

Needs and Uses: On June 29, 2009, the Commission adopted a Report and Order, Amendment of Service and Eligibility Rules for FM Broadcast Translator Stations, MB Docket No. 07-172, FCC 09-59. In the Report and Order, the Commission adopted changes to the FM translator rules that would allow AM stations to use authorized FM translator stations to rebroadcast the AM signal locally, retransmitting their AM programming as a ”fill-in” service. The adopted cross-service translating rules limit FM translators to providing ”fill-in” service only, specifically within the AM primary station's authorized service area. In addition, the Commission limited the cross-service rule changes to ”currently authorized FM translators,” that is, those translators with licenses or permit in effect as of May 1, 2009.

Consistent with actions taken by the Commission in the Report and Order, the following changes are made to Form 303-S: Section V of Form 303-S, to be completed by FM and TV Translator and Low Power TV licensees only, includes a new certification concerning compliance with the AM station ”fill-in” service requirements. Specifically, in the AM service, applicants certify that the coverage contour of the FM translator station is contained within the lesser of: (a) The 2 mV/m daytime contour of the AM primary station being rebroadcast, or (b) a 25-mile radius centered at the AM station's transmitter site. The instructions for Section V have been revised to assist applicants with completing the new question.

FCC Form 303-S is used in applying for renewal of license for a commercial or noncommercial AM, FM or TV broadcast station and FM translator, TV translator or Low Power TV, and Low Power FM broadcast stations. It can also be used in seeking the joint renewal of licenses for an FM or TV translator station and its co-owned primary FM, AM, TV, or LPTV station.

OMB Control Number: 3060-0250.

OMB Approval Date: September 1, 2009.

Expiration Date: August 31, 2012.

Title: Sections 73.1207, 74.784 and 74.1284, Rebroadcasts.

Form Number: Not applicable.

Type of Review: Revision of a currently approved collection.

Respondents: Business or other for-profit entities; Not-for-profit institutions; State, local or tribal government.

Number of Respondents and Responses: 6,462 respondents; 11,012 responses.

Estimated Time per Response: 0.50 hours.

Frequency of Response: Recordkeeping requirement; on occasion reporting requirement; semi-annual reporting requirement; third party disclosure requirement.

Total Annual Burden: 5,506 hours.

Total Annual Costs: None.

Obligation to Respond: Required to obtain or retain benefits. The statutory authority for this information collection is contained in Sections 154(i) and 325(a) of the Communications Act of 1934, as amended.

Nature and Extent of Confidentiality: There is no need for confidentiality with this information collection.

Privacy Act Impact Assessment: No impact(s).

Needs and Uses: On June 29, 2009, the Commission adopted a Report and Order, Amendment of Service and Eligibility Rules for FM Broadcast Translator Stations, MB Docket No. 07-172, FCC 09-59. In the Report and Order, the Commission adopted several rule changes that would allow AM stations to use FM translator stations to rebroadcast the AM signal. Therefore, 47 CFR 74.1284 is one of the rules that was changed as a result of the Commission adopting FCC 09-59. 47 CFR 74.1284 requires that the licensee of an FM translator station obtain prior consent to rebroadcast programs of any broadcast station or other FM translator. The licensee of the FM translator station must notify the Commission of the call letters of each station rebroadcast and must certify that written consent has been received from the licensee of that station.

Federal Communications Commission.
Marlene H. Dortch,
Secretary.

[FR Doc. E9-21518 Filed 9-8-09; 8:45 am]

BILLING CODE 6712-01-S